DEPARTMENT OF DEFENSE

Department of the Army; Corps of Engineers

Notice of Availability—Final Environmental Impact Statement for the Update of the Water Control Manuals and Water Supply Storage Assessment for the Apalachicola-Chattahoochee-Flint River Basin

AGENCY: Department of the Army, U.S. Army Corps of Engineers, DoD.

ACTION: Notice of availability.

SUMMARY: Notice is hereby given that the U.S. Army Corps of Engineers, Mobile District (USACE), has released the Final Environmental Impact Statement (FEIS) for the update of the Apalachicola-Chattahoochee-Flint (ACF) Water Control Master Manual (Master Manual) Alabama, Florida, and Georgia including a water supply storage assessment addressing reallocation of storage in Lake Sidney Lanier (Lake Lanier).

A Notice of Availability was published by the Environmental Protection Agency on December 16, 2016. The review period will end 30 days after that date.

DATES: The review period of the FEIS ends on January 14, 2017.

FOR FURTHER INFORMATION CONTACT: Mr. Lewis Sumner at telephone (251) 694-3857.

SUPPLEMENTARY INFORMATION: The Master Manual includes appendices prepared for individual projects in the ACF Basin and is the guide used by USACE to operate a system of five federal reservoir projects in the basin—Buford Dam and Lake Lanier, West Point Dam and Lake, Walter F. George Lock and Dam and Lake, George W. Andrews Lock and Dam and Lake, and Jim Woodruff Lock and Dam and Lake Seminole.

The purpose and need for the federal action is to determine how federal projects in the ACF Basin should be operated for their authorized purposes, in light of current conditions and applicable law, and to implement those operations through updated water control plans and manuals. The proposed action will result in an updated Master Manual and individual project water control manuals (WCMs) that comply with existing USACE regulations and reflect operations under existing congressional authorizations, taking into account changes in basin hydrology and demands from years of growth and development, new/rehabilitated structural features, legal developments, and environmental issues. The action includes updates to account for a June 28, 2011, decision of the 11th Circuit Court of Appeals.

On May 16, 2000, the Governor of the State of Georgia submitted a formal request to the Assistant Secretary of the Army (Civil Works) to adjust the operation of Lake Lanier, and to enter into agreements with the state or water supply providers to accommodate increases in water supply withdrawals from Lake Lanier and downstream at Atlanta over the next 30 years, culminating in total gross withdrawals of 705 million gallons per day (mgd)—297 mgd from Lake Lanier and 408 mgd downstream—by the year 2030. The Assistant Secretary of the Army (Civil Works) in 2002 denied Georgia's request. The 2011 decision of the 11th Circuit Court of Appeals ordered USACE to reconsider whether it has the legal authority to operate the Buford project to accommodate Georgia's request. USACE provided a legal opinion concluding that it has sufficient authority under applicable law to accommodate that request, but noted that any decision to take action on Georgia's request would require a separate analysis. On January 11, 2013, the Governor of the state of Georgia provided updated demographic and water demand data to confirm the continued need for 705 mgd to meet Georgia's water needs from Lake Lanier and the Chattahoochee River to approximately the year 2040 rather than 2030 as specified in the 2000 request. On December 4, 2015, after the Draft Environmental Impact Statement (DEIS) had been published, the Georgia Environmental Protection Division (GAEPD), on behalf of the State of Georgia, provided additional updated demographic and water demand data (referred to as Georgia's 2015 request) that reduced the state's needs from a total of 705 mgd to a range of 597-621 mgd—242 mgd from Lake Lanier (instead of 297 mgd) and 355-379 mgd downstream (instead of 408 mgd)—through the year 2050 rather than 2040 as specified in the 2013 request.

USACE's objectives for the Master Manual are to develop a water control plan that meets the existing water resource needs of the basin, fulfills its responsibilities in operating for the authorized project purposes, and complies with all pertinent laws. The FEIS presents the results of USACE's analysis of the environmental effects of the Proposed Action Alternative (PAA) that the USACE believes accomplishes these objectives.

USACE evaluated an array of potential water management alternatives and optional water supply amounts during the Master Manual update process, resulting in the selection of the PAA. Additional information on the components of the PAA can be found at http://www.sam.usace.army.mil/Missions/PlanningEnvironmental/ACFMasterWaterControlManualUpdate/ACFDocumentLibrary.aspx.

One alternative available to USACE is to continue with current operations. This approach is termed the No Action Alternative (NAA). The PAA would update the water control plans and manuals for the ACF Basin as directed by Secretary of the Army Pete Geren on January 30, 2008. Additionally, the PAA would provide for releases from Buford Dam to satisfy Georgia's 2015 request of 379 mgd from the Chattahoochee River for Metro Atlanta and would reallocate storage in Lake Lanier of 252,950 acre-feet to satisfy Georgia's 2015 request and support average annual water supply withdrawals of up to 222 mgd.

The FEIS responds to, and incorporates agency and public comments received on the DEIS, which was available for public review from October 2, 2015, through January 15, 2016. Five open house style public meetings were held on October 26th through November 9th, 2015, and more than 300 persons attended these workshops, either representing various agencies and organizations or as interested individual citizens. Two hundred seventy (270) comments on the DEIS were submitted by agencies (Federal, state, and local), private organizations, and individuals. The USACE responses to substantive agency and public comments are provided in appendix C of the FEIS.

USACE incorporated pertinent revisions and updates to the EIS and the WCM based on input received during the public review process. The key revisions and updates to the documents included in the FEIS for the WCM update include:

• Sections 1 through 12 were revised to make minor technical and administrative corrections and updates based on agency and public comments, independent external peer review comments, and relevant additional information obtained since the DEIS was published.

• Section 4 was also updated to more fully describe and clarify (1) the two-phased plan formulation process (water management alternatives/water supply options) to determine the alternatives evaluated in detail in section 6 (see the introduction to section 4); (2) how modeling was used in both phases of the plan formulation process to assess and narrow the array of alternatives considered in detail in section 6 and to provide a technical foundation for environmental impact assessment of the alternatives considered in detail in section 6; (3) the screening process for water management measures; and (4) consideration of an alternative offered by the ACF Stakeholders (ACFS) organization in comments on the DEIS.

• Section 5 was also updated to incorporate additional information provided by the State of Georgia in 2015 regarding (1) future water supply needs for communities withdrawing or expected to withdraw from Lake Lanier; (2) future water supply needs for communities withdrawing from the Chattahoochee River downstream of Buford Dam; and (3) expected return rates associated with lake and river withdrawals. The water supply needs considered in the FEIS were generally revised downward and extend over a longer planning horizon (from 2040 to 2050) than included in the previous 2013 request from Georgia, which was used in the formulation of alternatives presented in the DEIS. Further, the FEIS eliminated Glades Reservoir as a reasonably foreseeable source of future water supply when the GAEPD rescinded the need certification for the reservoir in early 2016. This additional information resulted in several new alternatives (including a new PAA), all of which are within the range of the alternatives evaluated in the DEIS.

• Section 6 was further updated to address additional alternatives (including the new PAA) that were developed in accordance with the additional water supply information from Georgia as presented in the updated section 5 of the FEIS. The updated analysis that includes the new alternatives was based on additional Hydrologic Engineering Center Reservoir Simulation and Water Quality models (HEC-ResSim) (HEC-5Q) that incorporated the revised water supply information. All pertinent subsections within section 6 have been updated accordingly.

• Appendix A (Master WCM and Individual Project WCMs) was updated to include pertinent technical corrections and administrative updates based on agency and public comments, independent external peer review comments, and relevant additional information obtained since the DEIS was published.

• Appendix B (Water Supply Storage Assessment Report) was updated to include the analysis of the new alternatives that incorporate additional population projections and water supply demand projections provided by Georgia in December 2015.

• Appendix C (Pertinent Correspondence) was updated to incorporate agency and public comments on the DEIS (with USACE responses) as well as relevant new correspondence.

• Appendix E (HEC-ResSim Modeling Report) was updated to reflect analysis of the additional alternatives based on changes presented in section 5 of the FEIS and to incorporate technical and administrative corrections and updates based on comments from agencies, the public, and independent external peer review.

• Appendix J (USFWS Coordination) was updated to incorporate documentation of Endangered Species Act Section 7 consultation that occurred following agency and public review of the DEIS as well as the final Fish and Wildlife Coordination Act Report for the Master Manual update.

• Appendix K (HEC-5Q Water Quality Modeling Report) was updated to reflect analysis of the additional alternatives based on changes presented in section 5 of the FEIS and to incorporate technical and administrative corrections and updates based on comments from agencies, the public, and independent external peer review.

• Appendix L (Coastal Zone Management Statement of Consistency) was updated to include administrative changes to the Florida Coastal Management Program reference, and to address Florida's comments on the Statement of Consistency in the DEIS.

• Appendix M (Recreation Benefit Analysis) was updated to reflect analysis of the additional alternatives based on changes presented in section 5 of the FEIS.

• Appendix N (USACE Institute for Water Resources ACF Climate Change Support Analysis) was updated to reflect the additional information available following coordination of the DEIS and in response to comments on the DEIS from agencies, the public, and independent external peer review.

• Appendix O (Unimpaired Flow Dataset) was added to describe the development of the unimpaired flow dataset.

Document Availability

The FEIS and appendices are available for review in the following formats:

• Online as PDF documents at www.sam.usace.army.mil/Missions/PlanningEnvironmental/ACF-Master-Water-Control-Manual-Update/ACF-Document-Library.aspx

• As a CD when requested in writing to: Commander, U.S. Army Corps of Engineers, Mobile District, Attn: PD-EI (ACF-FEIS), P.O. Box 2288, Mobile, AL 36628.

Next Steps

No sooner than 30 days after filing the final EIS with USEPA and publication of the EPA Notice of Availability for the FEIS in the Federal Register, USACE will prepare a Record of Decision (ROD) which documents the final decision on the proposed action. USACE will announce availability of the ROD in a newsletter, distribution to the project mailing list, press releases to local newspapers, radio and television news, and on the project Web site.

Dated: December 6, 2016.
James A. Delapp,
Colonel, District Commander, Mobile District, U.S. Army Corps of Engineers.

[FR Doc. 2016-30295 Filed 12-15-16; 8:45 am]

BILLING CODE 3720-58-P